DEPARTMENT OF JUSTICE

Notice of Lodging of Four Consent Decrees Pursuant To the Comprehensive Environmental Response, Compensation, and Liability Act

Notice is hereby given that on May 22, 2008, four proposed consent decrees in United States v. Belle Tire Distr., Inc., et al., No. 06cv0816, were lodged with the United States District Court for the Western District of Michigan.

In this cost recovery action brought pursuant to the Comprehensive Environmental Response, Compensation and Liability Act, 42 U.S.C. 9607, the United States sought recovery of unreimbursed past response costs and prejudgment interest incurred by the United States Environmental Protection Agency for a removal action at the Carl's Tire Retreading Site near Grawn in Grand Traverse County, Michigan. Under the four proposed consent decrees, fifteen defendants will pay a total of $2,020,200 to the Hazardous Substance Superfund.

The Department of Justice will accept comments relating to the four proposed consent decrees for a period of thirty (30) days from the date of publication of this notice. Comments should be addressed to the Assistant Attorney General, Environment and Natural Resources Division, and mailed either electronically to pubcomment-ees.enrd@usdoj.gov or in hard copy to P.O. Box 7611, U.S. Department of Justice, Washington, DC 20044-7611. Comments should refer to United States v. Belle Tire Distr., Inc., et al., Case No. 06cv0816 (W.D. Mich.) and D.J. Reference No. 90-11-3-09026.

The four proposed consent decrees may be examined at: (1) The Office of the United States Attorney for the Western District of Michigan, 330 Iona Avenue, Suite 501, Grand Rapids, Michigan 49503, (616) 456-2404; and (2) the United States Environmental Protection Agency (Region 5), 77 West Jackson Boulevard, Chicago, Illinois 60604-3590 (contact Steven P. Kaiser (312-353-3804)). During the comment period, the proposed consent decrees may also be examined on the following Department of Justice Web site: http://www.usdoj.gov/enrd/Consent_Decree.html. Copies of the proposed consent decrees may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please refer to the referenced case and D.J. Reference No. 90-11-3-09026, and enclose a check in the amount of $20.25 for the four consent decrees (81 pages at 25 cents per page reproduction costs), made payable to the U.S. Treasury.

William D. Brighton,
Assistant Chief, Environmental Enforcement Section, Environment and Natural Resources Division.

[FR Doc. E8-12112 Filed 5-30-08; 8:45 am]

BILLING CODE 4410-CW-P